DEPARTMENT OF TRANSPORTATION

National Highway Traffic Safety Administration

[Docket No. NHTSA-2013-0040; Notice 2]

General Motors, LLC, Grant of Petition for Decision of Inconsequential Noncompliance

AGENCY: National Highway Traffic Safety Administration (NHTSA), Department of Transportation (DOT).

ACTION: Grant of petition.

SUMMARY: General Motors, LLC (GM) has determined that certain model year (MY) 2013 Chevrolet Cruze, Chevrolet Volt, and Buick Verano passenger cars manufactured between November 15, 2012 and January 11, 2013, do not fully comply with paragraph S4.2.6 of Federal Motor Vehicle Safety Standard (FMVSS) No. 202a, Head Restraints; Mandatory Applicability Begins on September 1, 2009. GM has filed an appropriate report dated February 15, 2013, pursuant to 49 CFR Part 573, Defect and Noncompliance Responsibility and Reports.

ADDRESSES: For further information on this decision contact Mr. Ed Chan, Office of Vehicle Safety Compliance, the National Highway Traffic Safety Administration (NHTSA), telephone (202) 493-0335.

SUPPLEMENTARY INFORMATION:

I. GM's Petition

Pursuant to 49 U.S.C. 30118(d) and 30120(h) and the rule implementing those provisions at 49 CFR Part 556, GM has petitioned for an exemption from the notification and remedy requirements of 49 U.S.C. Chapter 301 on the basis that this noncompliance is inconsequential to motor vehicle safety.

Notice of receipt of the petition was published, with a 30-day public comment period, on October 28, 2013 in the Federal Register (78 FR 64289). No comments were received. To view the petition and all supporting documents log onto the Federal Docket Management System (FDMS) Web site at: http://www.regulations.gov/. Then follow the online search instructions to locate docket number “NHTSA-2013-0040.”

II. Vehicles Involved

Affected are approximately 32,838 MY 2013 Chevrolet Cruze, Chevrolet Volt, and Buick Verano passenger cars manufactured between November 15, 2012 and January 11, 2013.

III. Summary of GM's Analyses

GM explains that the noncompliance is that between 8 and 12 percent of the affected vehicles have rear outboard head restraints that do not meet the height retention requirements specified in paragraph S4.2.6 of FMVSS No. 202a.

GM further explained that the noncompliance is the result of a notch in one of the two head restraint rods not being machined to specifications. This notch corresponds to the rear head restraint's highest adjustment position. This condition does not affect the ability to lock the head restraint in the middle or lowest positions. Nor does it make the head restraint capable of being more easily removed.

GM stated its belief that the subject noncompliance is inconsequential to motor vehicle safety for the following reasons:

The root cause of the condition was determined to be a change made by a machine operator which reduced the clamping force in the operation that cuts the notches in the head restraint rod, slightly altering the shape of the notch. Restraints with the altered notch have a lower retention force than design intent.

The retention force for the head restraints with the improperly machined notch was measured as approximately 150 N.

GM recognizes that one of NHTSA's concerns was improper positioning of head restraints due to the head restraint moving out of position either during normal vehicle use or in a crash, as stated in the FMVSS No. 202a NPRM (January 4, 2001, 66 FR 979).

For everyday use, with the adjustment button depressed, these head restraints are designed to move down with a force of 40±20N. The measured retention force for the improperly machined notch is nearly 4 times the nominal adjustment force and 2.5 times the maximum. Without the button depressed, these head restraints will not “slip” or easily move down from the top adjustment position. For most, it would take a deliberate two-handed action to cause the restraint to move from the top to the mid position without activating the release button. The tactile feedback from such forced movement would be clear indication that it is not the correct method for adjusting the restraint. The opportunity for inadvertent misadjustment of the restraint is also diminished due to the fact that these are rear seat head restraints with no seating positions behind them. They are not at risk for misadjustment as a result of someone bumping or grabbing the restraint for assistance during vehicle ingress and egress.

FMVSS No. 202a provides two compliance options for head restraints. They are Paragraph S4.2 (Dimensional and Static Performance) or paragraph S4.3 (Dynamic Performance and Width). As with most of its vehicles, GM chose to certify the rear seat head restraints for the 2013 Cruze, Verano and Volt, to S4.2 (the “static option”) and the front head restraints to S4.3 (the “dynamic option”).

In order to evaluate the efficacy of the rear head restraints with the improperly machined notches, GM conducted a series of 6 sled tests at MGA Research. Two tests each were run for the Cruze, Volt and Verano. For each vehicle, one test was run according to the procedure specified by FMVSS No. 202a paragraph S4.3 which places the head restraint in the mid-position, and a second test was run in the same manner as the first test, but with the head restraint placed in the top position. The top position is that used in the height retention test of the static option, and that position is the one with the improperly machined notch. Improperly machined head restraints and corresponding rod guides were used for each test.

Significantly, in the three sled tests with the head restraint in the uppermost position, the head restraint did not move down. For all tests, the head restraint remained in its pretest height adjustment throughout the test. Also, in all sled tests (upper and mid position) the dummy met the injury criteria specified in the requirements for the dynamic option (<12 degree of neck rotation, <500 HIC) and head restraint width >170 mm.

GM's Arguments

GM believes that the subject noncompliance is inconsequential to motor vehicle safety because for the following reasons occupant protection is not compromised:

1. The noncompliant test vehicles meet the requirements specified under the dynamic compliance option 1 in all six sled tests. Therefore, GM believes that the improperly machined head restraint rod notches do not expose occupants to a significantly greater risk than those with properly machined notches.

2. The head restraints remained in their adjusted positions throughout the tests.

3. The occupant performance criteria specified for the dynamic compliance option was met in both the mid and upper head restraint adjustment positions.

4. These head restraints will maintain their adjusted positions during everyday use of the vehicle.

5. Paragraph S4.2.6 of FMVSS No. 202a allows 13 mm of permanent displacement of the head restraint. By design, the distance between the top and mid adjustment positions of the subject head restraints is 19 mm. Thus, the potential head restraint displacement due to the improperly machined notch is limited to 19 mm.

6. The owner's manual instructions continue to meet all the requirements of FMVSS No. 202a. Even though the head restraint could be forced down to the mid-position, it still requires substantially more effort than it does when the adjustment button at the base of the head restraint is depressed. The owner's manual instructions continue to be the recommended manner of adjustment.

7. GM is not aware of any injuries or customer complaints associated with this condition.

GM has additionally informed NHTSA that it has corrected the noncompliance so that all future production vehicles will comply with FMVSS No. 202a.

In summation, GM believes that the described noncompliance of the subject vehicles is inconsequential to motor vehicle safety, and that its petition, to exempt from providing recall notification of noncompliance as required by 49 U.S.C. 30118 and remedying the recall noncompliance as required by 49 U.S.C. 30120 should be granted.

IV. NHTSA Decision

NHTSA has reviewed and accepts GM's analyses that the subject noncompliance is inconsequential to motor vehicle safety. Specifically, the stated noncompliance poses little if any risk to motor vehicle safety because although the vehicles do not meet the static requirements of paragraph S4.2 of FMVSS No. 202a as certified by GM, they do meet the optional dynamic requirements of paragraph S4.3 of FMVSS No. 202a. Consequently, the subject vehicles are no less compliant than vehicles certified to the dynamic option.

Also, while GM's basis of certification for the subject vehicles was the static method, the certification labels on the subject vehicles do not identify the method of certification. Therefore, no associated labeling corrections are necessary.

In consideration of the foregoing, NHTSA has decided that GM has met its burden of persuasion that the FMVSS No. 202a noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: 49 U.S.C. 30118, 30120: Delegations of authority at 49 CFR 1.95 and 501.8.

Claude H. Harris,
Director, Office of Vehicle Safety Compliance.

[FR Doc. 2014-00922 Filed 1-17-14; 8:45 am]

BILLING CODE 4910-59-P